ENVIRONMENTAL PROTECTION AGENCY

40 CFR Part 52

Approval and Promulgation of State Implementation Plans: Oregon

CFR Correction

In Title 40 of the Code of Federal Regulations, Part 52 (§§ 52.1019 to 52.2019), revised as of July 1, 2013, on page 765, in § 52.1970, paragraphs (c)(139)(ii)(C) introductory text, (1) and (2) are moved to (c)(139)(i)(C) introductory text, (1) and (2).

[FR Doc. 2014-01283 Filed 1-21-14; 8:45 am]

BILLING CODE 1505-01-D